DEPARTMENT OF THE INTERIOR

National Park Service

[NPS-WASO-NAGPRA-17120; PPWOCRADN0-PCU00RP14.R50000]

Notice of Inventory Completion: University of Massachusetts Amherst, Department of Anthropology, Amherst, MA; Correction; Correction

AGENCY: National Park Service, Interior.

ACTION: Notice; correction.

SUMMARY: The University of Massachusetts Amherst, Department of Anthropology has corrected an inventory of human remains and associated funerary objects published in a Notice of Inventory Completion in the Federal Register on September 10, 2014. This notice corrects the minimum number of individuals and number of associated funerary objects. Lineal descendants or representatives of any Indian tribe or Native Hawaiian organization not identified in this notice that wish to request transfer of control of these human remains and associated funerary objects should submit a written request to the University of Massachusetts Amherst, Department of Anthropology. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the University of Massachusetts Amherst, Department of Anthropology at the address in this notice by January 21, 2015.

ADDRESSES: Julie Woods, Repatriation Coordinator, University of Massachusetts Amherst, Department of Anthropology, 215 Machmer Hall, 240 Hicks Way, Amherst, MA 01003, telephone (413) 545-2702, email repat@anthro.umass.edu.

SUPPLEMENTARY INFORMATION: Notice is here given in accordance with the Native American Graves Protection and Repatriation Act (NAGPRA), 25 U.S.C. 3003, of the correction of an inventory of human remains and associated funerary objects under the control of the University of Massachusetts Amherst, Department of Anthropology, Amherst, MA. The human remains and associated funerary objects were removed from Northampton, Hampshire County, MA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (79 FR 53770-53771, September 10, 2014). Human remains and associated funerary objects from the Bark Wigwams Site, Northampton, MA, were mistakenly omitted from this Notice of Inventory Completion. Transfer of control of the items in this correction notice has not occurred.

Correction

In the Federal Register (79 FR 53770-53771, September 10, 2014), replace every instance of the date May 14, 2014 with the correct date, May 15, 2014.

In the Federal Register (79 FR 53770-53771, September 10, 2014), in paragraph 9, insert the following before the correction:

In 1982 faculty and students of the University of Massachusetts, Department of Anthropology conducted a walk-over survey at the Bark Wigwams site, Northampton, Hampshire County, MA. Bone fragments representing, at minimum, one individual and associated funerary objects were surface collected and have remained at the University. No known individuals were identified. The 5 associated funerary objects are 1 lot of historic material (ceramics and coal), 1 lot of lithic flakes, 1 lot of stone tool fragments, 1 lot of rock, and 1 lot of unidentified faunal bone.

In the Federal Register (79 FR 53770-53771, September 10, 2014), paragraph 10 is corrected by substituting the following:

Pursuant to 25 U.S.C. 3001(9), the human remains described in this notice represent the physical remains of 96 individuals of Native American ancestry.

In the Federal Register (79 FR 53770-53771, September 10, 2014), paragraph 11 is corrected by substituting the following:

Pursuant to 25 U.S.C. 3001(3)(A), the 4,239 objects described in this notice are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Julie Woods, Repatriation Coordinator, University of Massachusetts Amherst, Department of Anthropology, 215 Machmer Hall, 240 Hicks Way, Amherst, MA 01003, telephone (413) 545-2702, email repat@anthro.umass.edu, by January 21, 2015. After that date, if no additional requestors have come forward, transfer of control of the human remains and associated funerary objects to the Narragansett Indian Tribe; Stockbridge Munsee Community, Wisconsin; and Wampanoag Tribe of Gay Head (Aquinnah) may proceed.

The University of Massachusetts Amherst, Department of Anthropology is responsible for notifying the Narragansett Indian Tribe; Stockbridge Munsee Community, Wisconsin; Wampanoag Tribe of Gay Head (Aquinnah); and non-Federally recognized Indian groups, including Abenaki Nation of Missisquoi, St. Francis/Sokoki Band, VT; Abenaki Nation of New Hampshire; Cowasuck Band of the Pennacook—Abenaki People, NH; Elnu Tribe of the Abenaki, VT; Koasek (Cowasuck) Traditional Band of the Koas Abenaki Nation, VT; Koasek Traditional Band of the Sovereign Abenaki Nation, VT; Nulhegan Band of the Coosuk-Abenaki Nation, VT; and Chaubunagungamaug Nipmuck and Nipmuc Nation, MA, that this notice has been published.

Dated: November 4, 2014.
Melanie O'Brien,
Acting Manager, National NAGPRA Program.

[FR Doc. 2014-29896 Filed 12-19-14; 8:45 am]

BILLING CODE 4312-50-P